DEPARTMENT OF HEALTH AND HUMAN SERVICES

Indian Health Service

Organization, Functions, and Delegations of Authority, Part GFJ, Indian Health Service, Navajo Area Office

Part GFJ, of the Statement of Organization, Functions, and Delegations of Authority of the Department of Health and Human Services (HHS), as amended at 52 FR 47053-67, December 11, 1987, as amended at 60 FR 56606, November 9, 1995, as amended at 61 FR 67048, December 19, 1996, as amended at 69 FR 41825, July 12, 2004, as amended at 70 FR 24087, May 6, 2005, 70 FR 60350, October 17, 2005, and most recently amended at Vol 79, No 68 FR 19626, April 9, 2014, is hereby amended to reflect a reorganization of the Navajo Area Indian Health Service (NAIHS). The purpose of this re-organization proposal is to update the current approved NAIHS organization to align the overall health care system that supports overall improved efficiency and ensure quality and safe health care services. Delete and/or update functional statements for the NAIHS in their entirety and replace with the following:

Organizations and Functions

Department of Health and Human Services

Indian Health Service (G)

Navajo Area Indian Health Service (GFJ)

Office of the Area Director (GFJ1)

(1) Plans, develops and directs the Area Program within the framework of Indian Health Service (IHS) policy in pursuit of the IHS mission; (2) delivers and ensures the delivery of high quality comprehensive health services; (3) coordinates the IHS activities and resources internally and externally with those of other governmental and nongovernmental programs; (4) promotes optimum utilization of health care services through management and delivery of services to American Indians and Alaska Natives; (5) Ensures the full application of the principles of Indian preference and a model Equal Employment Opportunity (EEO) program; (6) provides Indian Tribes and other Indian community groups with optional ways of participating in the Indian health programs including an opportunity to participate in developing the mission, values and goals for the NAIHS; (7) participates in cross-cutting issues and processes, including, but not limited to emergency preparedness/security, budget formulation, self-determination issues, Tribal shares computations and resolution of audit findings as may be needed and appropriate.

Diversity Management and Equal Employment Opportunity (DMEEO) Program (GFJ1A)

(1) The DMEEO Program will ensure Equal Employment Opportunities for Federal employment for a Diverse, Equitable, and Inclusive work environment; (2) maintains a compliant model EEO Program, as required under both Title VII of Civil Rights Act of 1964, as amended, 42 U.S.C. 2000e, and Section 501 of the Rehabilitation Act of 1973, as amended, 29 U.S.C. 791; (3) ensures the full application of the principles of Indian preference; (4) maintains a compliant model EEO Program, as required under both Title VII of the Civil Rights Act of 1964; MD-110, and applicable employment laws; (5) advises the Area Director and leadership in the execution of EEO responsibilities; (6) provides program direction and leadership for the Area EEO program and procedures; (7) ensures prohibition of unlawful discrimination practices in Federal employment for employees and applicants; (8) provides the rights, responsibilities, and protections under the Federal anti-discrimination laws that prohibit discrimination in the workplace based on race, ethnicity, color, religion, sex, (including pregnancy, gender identity, and sexual orientation), national origin, age (40 years of age or over), disability (physical or mental), genetic information (family medical history), or in retaliation for EEO or whistleblower activity.

Office of Administration and Management (GFJ2)

(1) Plans, directs, and coordinates NAIHS activities in the areas of policy, internal controls reviews, financial management, human resources management, third-party reimbursements, contracts management, procurement, and information technology, including personal property, records and transportation accountability/management; (2) administrative and management oversight of Gallup Regional Supply Center; (3) serves as the NAIHS principal advisor on all Area organization and management policy activities; (4) provides guidance and assistance to Service Units in the overall development, planning and implementation of administrative functions; (5) advises staff on procedures for the development, revision, or cancellation of Area-issued directives and delegations.

Division of Financial Management (GFJ2A)

(1) Provides direction for the organization, coordination, and execution of all budget and financial operations of the Area; (2) monitors fund control operations of Service Units and program offices; (3) develops and implements budget, fiscal, and accounting procedures; (4) conducts reviews and analyses to ensure compliance with Area policy; (5) interprets policies, guidelines, manual issuances, Office of Management and Budget (OMB) circulars, directives and other instructions issued by IHS, HHS, OMB, and Congress as it relates to the formulation of Area and Service Unit budgets and budget execution; (6) develops and makes recommendations of Area budget execution by Service Units; (7) establishes and maintains memorandum accounts of obligations for allowances through use of commitment registers; (8) monitors and ensures proper obligation of prior year funds and; (9) provides technical support for Tribal relations pertinent to budget activities such as annual budget formulation, Tribal Health Programs Annual Funding Agreements and their budget modifications.

Branch of Accounting (GFJ2A1)

(1) Provides advice and guidance to Area and Service Unit staff in the areas of Accounts Payable, Cash Management, Federal/Inter-agency Transactions, and Travel; (2) advises Area and Service Unit staff on the interpretation of accounting data and reports received from IHS Headquarters (HQ); (3) assures that accounting transactions are entered properly and prepares periodic or special purpose reports and financial statements for Area Divisions and Service Units; (4) provides interpretation and ensures compliance with operating policies, procedures, guidelines via Federal Travel Regulations, Federal Property Management Regulations, Joint Travel Regulations, HHS Travel Manual, Indian Health Manual-Travel Management; (5) participates in reconciliations of all funding sources (Federal, Tribal, and Urban) on a regular basis; (6) completes Debt Management.

Branch of Third Party (GF2A3)

(1) Provides interpretation and ensures compliance with the IHS Indian Health Manual Part 5, Chapter 1 (Third-Party Revenue Accounts Management and Internal Controls), On-line Reporting Tool Manual, Debt Management, Recovery of Funds Under Federal Medical Care Recovery Act (FMCRA) Policy, NAO Business Office Report Internal Policy, and other pertinent policies; (2) plans and coordinates and provides oversight of third party revenue accounts management of NAIHS facilities, including standardized reports and reporting; (3) provides technical assistance and guidance to Service Unit third-party staff in areas of patient registration, patient benefits coordination, billing, denial management, accounts receivable, internal audits, and pertinent requirements; (4) establishes liaison and coordinates Medicare/Medicaid activities with State agencies, including policy interpretation; (5) ensures accurate and current information and trends, including analysis of trends, are consistently available to the NAIHS executives and Service Unit Chief Executive Officers.

Branch of Budget (GFJ2A2)

(1) Ensures accurate and current information are available at all times for the NAIHS Executive Staff, Division Directors, and Service Unit management teams; (2) ensures that funds are allotted properly and accounted for in line with acceptable Federal accounting practices; (3) analyzes obligation trends and prepares periodic reports and; (4) assures that reconciliations of all funding sources (Federal, Tribal, and Urban) are accomplished on a regular basis.

Gallup Regional Supply Service Center (GFJ2B)

(1) Responsible for the overall management of expendable medical supplies such as provides bulk supply support directly to federal and Public Law 93-638 Service Units/healthcare facilities located in Arizona and New Mexico through management and operation of laboratory, dental, medical, subsistence, and general medical supply items; (2) plans, develops, and manages supply budgets; (3) provides technical and staff assistance to Service Units in matters related to the acquisition, utilization, disposition, and accountability of supplies; (4) serves as the Regional emergency management response team for logistical coordination of medical supplies; (5) provides technical expertise and recommendations for automated logistical software requirements for just in time delivery product management.

Division of Acquisition Management and Contracts (GFJ2C)

(1) Plans, develops, and coordinates the execution of administrative systems, methods, and techniques for Area procurement activities; (2) provides guidance to Service Units on the administrative aspects of Federal contracting, procurement, and grant requirements; (3) serves as the principal focus for liaison activities regarding the administrative aspects of procurements, intra/inter-agency agreements, collaborative agreements, Memorandum of Agreements (MOA) and Memorandum of Understanding (MOU), etc.; (4) determines and delegates procurement authority; (5) administers the purchase card program; (6) provides planning, direction, monitoring, and evaluation assistance to Service Units on procurement functions; (7) ensures compliance with applicable Federal regulations and statutes; (8) audits in-progress and completed work of the Area Office and Service Units; (9) prepares and issues internal and field policy and guidance; (10) serves as NAIHS Ombudsman for development and fostering of contractual relationships; (11) provides technical assistance to non-acquisition personnel in the government.

Division of Information Technology (GFJ2D)

(1) Plans, coordinates and assists in implementation of new software/hardware in support of clinical care, including assists in deployment of clinical software/hardware for electronic health records and associated Information Technology (IT) programs and systems; (2) Provides direction, supervision and management of all activities related to data processing, word processing, networking, video-conferencing, digital imaging transmission, computer security, telecommunications and archiving; (3) provides direct services through operation and management of associated automated data processing hardware and software; (4) provides technical assistance in related activities involving systems design, development, implementation, testing and training throughout the NAIHS, including staff assistance to Area and Service Unit staff; (5) provides data processing services, including computer operations, and information retrieval and analysis for operational data systems within the NAIHS; (6) performs systems analysis, computer programming, computer systems security, system implementation and user training for the Area's data system; (7) ensures security of government IT systems, privacy of patient information, and compliance with Federal laws, regulations, and policies applicable to the IHS; (8) advises the Area executive management staff on effective, efficient, and successful IT strategies; (9) directs the acquisition, development, enhancement, deployment, support, and training for information systems that support health services and business operations of NAIHS; (10) participates in cross-government initiatives and collaborates with IHS Headquarters, IHS Areas, Tribal, and other partners to effectively and efficiently support NAIHS objectives and; (11) ensures a viable security program for protection of the NAIHS and Gallup Regional Services Supply Center (GRSSC) grounds and buildings; (12) assists as the administrative authority on Capital Investment Planning Program for all non-expendable equipment.

Branch of Systems Administration (GFJ2D1)

(1) Provides overall system administration support functions for the NAIHS and Service Unit Resource and Patient Management System (RPMS), Microsoft ®Windows©, Unix and Commercial Off The Shelf operating systems; (2) plans, develops, and manages the NAIHS website; (3) monitors and ensures all security requirements are met or exceeded; (4) develops applications for administrative, financial and clinical reporting requirements; (5) evaluates new technologies and internet services.

Information Systems Security Staff (GFJ2D3)

(1) Develops and monitors information systems security requirements for NAIHS; (2) plans, develops, and monitors security policies, procedures and requirements for the Area Office and Service Units; (3) installs, manages and monitors security systems to protect patient privacy and confidentiality; (4) plans, designs and implements network and telecommunications systems to provide optimum voice, video and data transmission; (5) manages and monitors a wide area network and local area networks for optimum digital imaging/telehealth utilization and availability.

Policy, Planning, and Management Staff (GFJ2D4)

(1) Coordinates and promotes the NAIHS IT strategic planning initiatives; (2) monitors, develops and manages the NAIHS information systems policies and procedures; (3) consults with administrative services and management regarding information systems initiatives and provides IT support; (4) maintains, monitors and coordinates the RPMS system-wide data elements requirements; (5) assembles performance improvement measurements required by The Joint Commission (TJC) or Centers for Medicare and Medicaid Services.

Property and Supply Management Staff (GFJ2D5)

(1) Provides leadership, direction and overall management of all personal property in key areas of planning, accountability, utilization, control, and disposal; (2) provides guidance on Area property management procedures including property accounting and reporting instructions; (3) executes physical inventories including the reconciliation of inventory reports and standard general ledger accounts; (4) documents all transactions affecting personal property; (5) provides technical assistance Area-wide on property software packages, e.g., Sunflower Assets; (6) provides overall management of Area Office expendable office and federal forms supplies to include reliability, timeliness, quality, service and cost effectiveness; (7) provides technical and staff assistance to Area and Service Units on matters related to the acquisition, utilization, disposition, and accountability of equipment; (8) plans, develops, coordinates, and provides internal audit activities related to all-encompassing Logistical Management functions: Office services, Federal Records Management and delegation/directives control, personal property management, and other administrative services in support of Area programs; (9) provides guidance to Service Units in the operation and evaluation of procurement and acquisition of equipment, office services, and transportation; (10) serves as the subject matter expert on Federal personal property management laws, rules, regulations, policies, procedures, and practices

Office of Clinical Services (GFJ3)

(1) Ensures the delivery of safe and comprehensive care to all primary care and specialty care patients in NAIHS; (2) Responsible for all health programs ensuring safe quality care for all patients in the NAIHS; (3) The Chief Medical Officer assists the Clinical Directors and Chief Nurse Executives by supporting Area-wide initiatives to provide patient access, safety and satisfaction as well as the financial performance of clinical services; (4) provides consultation and technical assistance to all operating and management levels of the NAIHS and Indian Tribes in the design and implementation of a health management delivery system; (5) provides guidance and support to all field activities related to the day-to-day delivery of health care; (6) provides Area-wide leadership in Clinical programs in relation to the IHS goals, objectives, policies, and priorities; (7) provides direction for the operation of the healthcare delivery activities of the NAIHS; (8) handles all logistics associated with the conduct of clinical program reviews of Service Units; (9) directs the development and implementation of health care standards, quality control and quality assurance, operational planning activities and reviews of clinical programs; (10) provides leadership, guidance, and coordination of the clinical manpower and training programs.

Division of Clinical Consultants (GFJ3A)

(1) Provides technical support expertise to Service Units; (2) provides professional guidance in formulating policies, procedures and standards of care and practices; ensures Area-wide compliance with established policies, procedures and regulations; (3) advises on assessment findings for potential implications for NAIHS policy, plans, programs and operations; (4) develops quality of care evaluation criteria, standards of care, and guidance for the maintenance of the quality assurance programs of the NAIHS; (5) conducts monitoring activities to assess the quality of care provided by the NAIHS.

Division of Purchased/Referred Care (GFJ3B)

(1) Establishes and provides organization, coordination, and implementation of policies and procedures for Purchased/Referred Care (PRC) operations, utilizing managed care concepts; (2) coordinates the development of an annual budget, with advice of allowance, for PRC fund control activities; (3) coordinates and evaluates medical, preventive, and hospital services provided through formal contractual procedures; (4) implements and administers a PRC quality assurance program that is data based and verifiable for monitoring the quality of PRC; (5) establishes strategic PRC plans that are developed to support organizations, issues, or work processes; (6) coordinates and implements information resources related processes that integrate selected techniques/methods with PRC systems to solve processes/problems; (7) coordinates and analyzes appeal cases, high cost care cases, and deferred PRC services.

Professional Recruitment Staff (GFJ3G)

(1) Develops the NAIHS program to recruit, assign and retain health care professionals; (2) assesses the professional staffing needs, coordinates the development of strategies to satisfy these needs, and increase the morale and retention of all professionals; (3) provides liaison with Commissioned Corps activities; (4) maintains contact with related professional societies, educational institutions, and other Federal, State and local agencies; (5) coordinates professional recruitment, assignment and development of Dental Officers for the Area; (6) enhances partnerships with Tribal healthcare organizations that are administered by the Navajo Nation and its contractors by providing recruitment and retention activities for the organizations that have left Tribal shares at the Area Office for this purpose.

Office of Environmental Health and Engineering (GFJ4)

(1) Establishes policies related to NAIHS health care and sanitation facilities planning, construction, operations, and maintenance; (2) provides leadership, guidance and coordination to the overall Navajo facilities management programs; (3) develops and coordinates program requirements for planning, design and evaluation of health care and sanitation facilities; (4) develops, coordinates, and evaluates technical standards, guides, plans and requirements for health care and sanitation facilities construction requirements within the NAIHS; (5) provides leadership, guidance, and coordination to the overall Area Biomedical Engineering Program and the Occupational Health and Safety Management Programs; (6) allocates appropriation funds to all Office of Environmental Health and Engineering (OEHE) programs and projects; (7) provides non-legal advice to the Area on Public Law 93-638 as it relates to OEHE services and activities.

Division of Environmental Health Services (GFJ4A)

(1) Plans, develops and appraises Area-wide environmental health services programs; (2) provides technical assistance to the Service Units and the Tribes on the implementation of comprehensive environmental health programs and services among Indian families and communities; (3) provides technical assistance on environmental health including institutional environmental health and plan reviews, vector control, epidemiology, sanitary facilities, and food sanitation to the IHS, Tribes and Federal and State agencies; (4) plans and implements an integrated Area-wide injury prevention and control program designed to reduce injury deaths and hospitalizations; (5) coordinates environmental responses to emerging diseases with Tribes, States, and other Federal agencies; (6) manages and administers a Web-based environmental health database that helps determine resource requirement allocations.

Division of Sanitation Facilities Construction Services (GFJ4B)

(1) Administers the Indian Sanitation Facilities Construction Program through Public Law 86-121; (2) plans, develops, coordinates, appraises and evaluates Area-wide sanitation facilities construction activities conducted in cooperation with Tribal groups and other agencies; (3) provides engineering consultation regarding environmentally related public health programs; (4) provides technical liaison with other Governmental agencies, foundations and groups relative to public health engineering and environmental health; (5) provides personnel staffing, training, orientation, and development; (6) ensures professional/technical/environmental standards compliance and support; (7) provides National Environmental Policy Act (NEPA) compliance documentation, approval, and support; (8) provides right-of-way easement documents, approval, and support; (9) provides specialty use/construction permits, approval, and support; (10) provides project funding document preparation, production, approval, and support; (11) coordinates multi-agency funded projects coordination, procurement, and task tracking; (12) provides procurement/warehousing/inventory of office and special order project materials/equipment/services; (13) provides project services, materials, equipment, and construction via Memorandum of Agreements and Public Law 93-638 contracts with Navajo Engineering Construction Authority and Navajo Tribal Utility Authority; (14) provides vehicle fleet maintenance, management, and support; (15) provides project electrical design, services, and support; (16) provides project accounting and payment services and/or support; (17) provides project final inspection/transfer process documentation, tracking, approval, and support; (18) provides technical support for writing, completion, and distribution of project final reports; (19) coordinates feasibility studies related to Tribal, Tribal Chapter, and other outside agency requests.

Division of Facility Planning and Management (GFJ4C)

(1) Develops and coordinates program requirements for planning, design and evaluation of health care facilities in the NAIHS; (2) develops, coordinates, and evaluates technical standards, guidelines, plans, and requirements for health care facilities construction requirements within NAIHS; (3) develops and coordinates facility construction programs; (4) provides technical assistance and monitors NAIHS and Tribal facilities planning and construction programs; (5) coordinates inter-agency requirements for shared or cooperative projects with agencies such as Department of Defense, Department of Veterans Affairs, State, Tribal, and regional planning bodies; (6) provides technical assistance and consultation to the Tribal Government to assist and brief those organizations on the progress of planning, design and construction projects; (7) ensures compliance with NEPA and other environmental regulations in planning, design and construction of health care facilities, support buildings, major renovations/expansions to existing facilities and staff quarters; (8) responsible for real property asset accountability of all IHS government property; (9) responsible for budget accounting for all construction projects for all funding sources; (10) provides non-legal advice the NAIHS on Public Law 93-638 as it relates to OEHE services and activities.

Facility Planning Staff (GFJ4C1)

(1) Provides leadership and guidance on health planning, program planning, health systems planning, (2) provides coordination for the Area including updates of Area Master Plans for Health Services, including current and proposed new health services, new health facilities, staff housing/quarters, and staffing requirements for current and future needs.

Division of Biomedical Engineering (GFJ4D)

(1) Plans, develops, coordinates, appraises and evaluates Area-wide biomedical engineering programs; (2) assesses Service Unit biomedical engineering needs and develops appropriate action programs and modification to existing program functions; (3) coordinates staff assignments, designs medical equipment training and education programs for hospital and clinical staff and career development activities for the NAIHS; (4) provides engineering and technical assistance and consultation on biomedical engineering and telemedicine equipment, purchases, modifications, installation and hospital renovation and construction projects; (5) coordinates safety and emergency response planning activities; (6) ensures compliance with applicable regulatory requirements from various professional organizations and entities including the National Fire Protection Agency, Association for the Advancement of Medical Instrumentation, TJC, Food and Drug Administration, etc.; (7) coordinates the modification, installation and design of medical, dental, and radiology equipment; (8) assesses and minimizes the clinical and physical risk of equipment use on patients and clinical staff through equipment maintenance, inspection, testing and quality assurance and risk management programs; (9) supports direct patient care programs by maintaining and certifying the operation and safety of all medical equipment; (10) provides specialized biomedical engineering equipment repair for all dental, medical, and radiology equipment; (11) coordinates and monitors complex medical and laboratory contracts Area-wide; (12) provides design and engineering of a Picture Archiving and Communication System for radiology functions and recommends telemedicine applications for the clinical need and mission of NAIHS; (13) specifies and designs telecommunications requirements for telemedicine to ensure sufficient bandwidth is available for the telemedicine programs.

Division of Occupational Health and Safety Management (GFJ4E)

(1) Performs industrial hygiene activities including compliance surveys of radiographic equipment; (2) assesses radiation exposure to patients; (3) provides quality assurance assessment of medical imaging processing; (4) provides surveys of occupational exposure to nitrous oxide, ethylene oxide, anesthetic gases, mercury and other chemical hazards; (5) evaluates ventilation systems in negative pressure isolation rooms, operating rooms and dental operations; (6) provides ergonomic analyses of workstations and high risk occupations; (7) provides safety and infection control program development and evaluation including training and consultative assistance for safety officers and infection control practitioners; (8) provides compliance reviews of existing policies and procedures; (9) develops model policies and procedures; (10) provides safety and infection control program accreditation compliance reviews; (11) provides occupational safety and infection control training for Service Unit staff; (12) provides environmental sampling to include sample collection and analysis of suspected asbestos-containing materials, lead-based paint and quantification of indoor air contaminants; (13) performs environmental assessments which include surveys to determine Service Unit compliance with Federal, State and local environmental regulations; (14) coordinates facilities management to conduct life safety code (building fire safety component) surveys; (15) conducts construction plan reviews for new construction and renovation; (16) consults with and advocates for facility managers on life safety code compliance issues.

Division of Administrative Support (GFJ4G)

(1) Provides administrative direction and guidance to the operational Divisions within the NAIHS OEHE, including guidance provided to Area, District, and Field Offices located throughout the NAIHS; (2) performs accounting services for the OEHE Divisions, including planning and implementation of annual OEHE program budgets; (3) maintains annual OEHE budget commitment registers; (4) receives and approves vendor invoices; (5) provides certification of funds available within appropriate electronic financial management and government travel systems; (6) ensures proper obligation and expenditure of program and project funds; (7) provides overall internal coordination with the NAIHS Division of Financial Management and the Division of Acquisition Management and Contracts, ensures appropriate financial transactions, documentation and reporting; (8) advises the OEHE Director on NAIHS OEHE IT needs and requirements, including computer equipment, computer networking, electronic mail, internet connectivity, new technologies, information system security awareness and compliance, and information system continuity of operations plans; (9) provides technical consultation and direct assistance to OEHE staff stationed at Area, District, and Field Offices concerning hardware and software installation, configuration, maintenance and repair; (10) assesses and monitors OEHE professional staffing needs; (11) coordinates with Division Directors to develop strategies to meet the needs and increase the morale and retention of OEHE staff; (12) works with Human Resources to prepare vacancy announcements and process personnel orders for civil servants and Commissioned Corps Officers; (13) encourages full program support and compliance concerning Indian preference and EEO requirements in hiring and managing staff; (14) oversees the OEHE staff professional development program; (15) receives, reviews, and processes OEHE training authorization documents to support continuing education and improved competencies among OEHE staff; (16) supports staff individual development plans (IDPs) and ensures training requests are consistent with established IDPs; (17) provides program management of OEHE personal property in terms of accountability, utilization, control, and disposal; (18) provides guidance on OEHE property management procedures including property accounting and reporting instructions; (19) documents all transactions affecting OEHE personal property; (20) assists the OEHE Director with Public Law 93-638 issues; (21) participates in formal Public Law 93-638 negotiations with the Navajo Nation and Tribal Organizations authorized by Navajo Nation to contract pursuant to Public Law 93-638; (22) serves as members of the NAIHS Incident Response Team.

Office of Tribal Partnerships and Liaison (GFJ5)

In support of the IHS mission, the Office of Tribal Partnership and External Affairs: (1) Provides leadership and partnership efforts on Tribal and urban Indian health activities in implementation of Title I and Title V of the Indian Self-Determination and Education Assistance Act and Title V of the Indian Health Care Improvement Act; (2) responsible for the implementation of policies, procedures, and standards for Tribal and urban health programs; (3) serves as the liaison between Tribes and headquarters; (4) principal advisor to the Area Director and Area; (5) serves as primary source of technical and policy advice on Tribal matters.

Indian Self-Determination Staff (GFJ5A)

(1) Plans, coordinates, and implements all tasks relative to contracting/compacting activities pursuant to the Indian Self-Determination and Education Assistance Act, Public Law 93-638, as amended; (2) advises the Area Director and leadership on the activities and issues related to the IHS' implementation of Title V of the Indian Health Care Improvement Act, as amended and assures that Urban Indian health programs and organizations are informed of pertinent health policies; (3) coordinates and effectuates respectful and positive relations with Tribal, State and Federal Governments and agencies, and intra/inter-agency departments at local and national offices; (4) develops supportive relationships with local Tribal Governments and Tribal organizations (contractors and compactors); (5) provides advice on the effect and impact of IHS policies, plans, programs and operations on Tribal operations and relationships; (6) advises and reports pertinent data/information to the Area Director, Executive Committee, Public Law 93-638 Negotiation Team, Service Unit Chief Executive Officers, Tribal Governments, and Tribal organizations relative to contracting activities; (7) compiles Area Director Report to Navajo Nation legislature on a quarterly basis; (8) in coordination with the Office of the General Counsel, provides technical support to Office of Environmental Health and Engineering, Area Offices and Federal Service Units on Public Law 93-638 issues; (9) oversees the negotiation of all self-determination contracts and self-governance compacts and funding agreements with participating Tribal governments and Tribal organizations; (10) advises on new methods and techniques for Indian community participation in, and management of their health programs; (11) provides technical assistance in such areas as financial resource management (inter/intra-agency); (12) organizes, collaborates, promotes and maintains effective Tribal consultation with Tribal Government programs, Tribal organizations and Tribal Leaders; (13) ensures that urban confer with Urban Indian health programs and organizations occurs during the development of IHS policy.

Urban Programs Staff

(1) Coordinates activities with IHS HQ and NAIHS on relevant Tribal and Urban activities; (2) coordinates, assists and monitors inter-governmental and legislative activity and functions; (3) monitors and provides liaison for the maintenance of an effective financial management system on all aspects of contract/compact funding; (4) participates in cross-cutting issues and processes including, but not limited to emergency preparedness/security, budget formulation, self-determination/self-governance issues, federal and Tribal workgroups, and resolution of audit findings as may be needed and appropriate.

Office of Public Health (GFJ6)

The NAIHS Office of Public Health promotes the health and wellness of the Navajo Nation. (1) Works together to improve the health status of the Navajo Nation; (2) collaborates with the Navajo Nation, State, Tribal, Federal and Universities to maintain an active network of public health professionals; (3) utilizes data, surveillance, and statistics to monitor public health and eliminate health disparities; (4) focuses on prevention, epidemiology, disease surveillance, infectious disease control, chronic disease prevention, immunizations, and health promotion.

Division of Health Promotion and Disease Prevention (HPDP) (GFJ6A)

(1) Develops, implements, and evaluates HPDP Programs to create a healthier Navajo Nation; (2) The Navajo HPDP hosts, coordinates, implements, communicates wellness, and disseminates evidence based health promotion information to prevent chronic diseases; (3) The Navajo HPDP program collaborates with the community and stakeholders to promote health and wellness; (4) implements a wide range of preventive programs including Just Move It, Acudetox (Ocular Acupuncture), Navajo Wellness Model, Basic Tobacco Intervention Skills, Lifestyle Balance, School Health Prevention Programs, Physical Activities, Youth Mental Health First Aid, and Employee Wellness. Other Areas include: Chronic Disease Prevention, Community Health, Immunizations, Nicotine Prevention, Behavioral Health, and Health Promotion and Disease Prevention.

Diabetes Treatment and Prevention Staff (GFJ6B)

(1) Works with the Special Diabetes Programs for Indians grants to provide diabetes treatment and prevention services to IHS, Tribal and Urban Indian health programs.

Branch of Program Statistics (GFJ6C)

(1) Provides day-to-day technical and scientific planning, direction, management, and analyses of infections and/or acute or chronic illnesses, injuries, and occupational hazards; (2) serves as a technical expert and advisor in epidemiology in the design, conduct, and analysis of epidemiologic studies and associated risk factors and costs; (3) works closely with epidemiologic and surveillance team members in developing data coding, editing, and analysis plans for activities and epidemiologic studies; (4) selects and utilizes statistical techniques and computer software packages most appropriate to the problem at hand; (5) prepares and submits manuscripts for presentation at scientific meetings and for publication in scientific journals; (6) delivers presentations to public health, medical and other professional groups; (7) serves as technical officer for collaborative projects with State health departments and other governmental and non-governmental agencies and organizations; (8) interacts effectively with officials at all levels of Federal and state government, private and nonprofit institutions, international health agencies, and other health professionals; (9) cooperates with other organizational components within IHS to achieve overall objectives; (10) provides responses to requests from individuals within and outside IHS; (11) provides health care program work conducting and consulting on epidemiological studies/issues; (12) provides professional consulting services of various health care programs for epidemic/pandemic issues.

Office of Quality and Patient Safety (GFJ7)

(1) Advises the NAIHS Area Director on all aspects of assuring quality health care and develops and implements a strategic quality framework, integrating feedback and inputs from various levels of the organization and Tribal/Urban Indian organization partners; (2) oversees accreditation readiness activities and compliance with accreditation requirements; (3) conducts training and informational activities that promote skills development in quality improvement, quality assurance, and performance improvement; (4) assesses and reports on patient satisfaction and experience using standardized survey instruments and processes, and facilitates improvement activities; (5) coordinates and organizes participation of NAIHS facilities and staff in interagency quality improvement activities; (6) develops and monitors quality improvement and assurance metrics for health care delivery processes and outcomes, and advises Service Units on quality improvement methods to improve support and outcomes of NAIHS administrative functions and processes; (7) develops programs to assess, address, and continuously improve systems and processes to improve health care quality, promote sustained compliance with relevant Federal regulations and accreditation and professional standards, reduce and improve patient wait times and patient experience of care in all related health care settings; (8) consults on and provides guidance for standardization of health care delivery policies and protocols; (9) develops programs which promote patient safety management and reporting systems and processes, sentinel event investigations/root cause analysis, and clinical risk management; (10) supports patient-centered care processes, engagement of patients as partners in care, and patient activation through self-management support and involvement in delivery service improvements; (11) participates in cross-cutting issues and processes, including but not limited to, emergency preparedness/security, quality assurance, recruitment, budget formulation, self-determination issues, and resolution of audit findings as may be needed and appropriate.

Division of Patient Safety (GFJ7A)

(1) Develops and implements a quality program to promote patient safety; (2) promotes a culture of safety; (3) provides education; (4) establishes and monitors systems and metrics related to patient safety events; (5) establishes policy and guidelines to reduce adverse events; (6) reduces all types of hospital-acquired conditions, (7) reduces hospital readmissions; (8) improves communication with primary care and management of community-based resource delivery; (9) promotes sustained compliance with relevant federal regulations and accreditation and professional standards; (10) coordinates mock surveys; (11) promotes accreditation services coordination; (12) provides accreditation resource management; (13) provides survey corrective action plan development assistance and coordination; (14) maintains accreditation and certification survey reports; (15) promotes multidisciplinary integration of survey readiness support activities; (16) promotes patient safety program; (17) promotes unification of Service Unit Quality Managers; (18) promotes quality management practice; (19) promotes and embraces new models of care delivery; (20) enhances the efficiency of the care delivery process; (21) develops and implements a program to support the patient-centered medical home model; (22) promotes a competent quality management staff; (23) coordinates training and support resources for health care staff; (24) standardizes quality management tools and resources; (25) provides leadership development and skill building; (26) supports quality assurance and quality improvement programs.

Quality Assurance Staff (GFJ7B)

(1) Optimizes use of health IT and data to enhance health care system compliance; (2) assess if patient safety meets standards of care; (3) reports quality management data related to clinical outcomes; (4) develops quality assurance and control activities related to protocols monitoring, data collection, abstraction, and data analysis; (4) develops improvement strategies to supply data to staff to meet accreditation standards; (5) implements quality improvement resources that include Model of Improvement, Six Sigma, and evidence-based quality improvement practices; (6) implements policies and procedures and staff education based on quality management data information.

Branch of Informatics (GFJ7C)

(1) Provides technical support to the Service Units in the area of clinical informatics and maintains expertise in IHS-specific patient management software; (2) assists Service Units with efforts to enhance services and maintain compliance with interoperability standards; (3) communicates informatics needs to IHS Headquarters; (4) informs Service Units of service enhancements planned by the IHS Office of IT; (5) supports Service Units in data retrieval to meet quality standards.

Navajo Area Service Units

The NAIHS continues to be the primary health care provider for the Navajo Nation and San Juan Southern Paiute Tribe. Comprehensive health care is provided through inpatient, outpatient and community health (preventive) programs. The goal is to provide high quality, comprehensive preventive health care to the Navajo Nation, San Juan Southern Paiutes and all IHS beneficiaries served at NAIHS facilities, including prenatal care, immunizations, well-baby clinics, family planning, health education, and chronic disease follow-up. Service Units in the NAIHS are as follows:

• Chinle Service Unit (GFJA)

• Crownpoint Service Unit (GFJB)

• Gallup Service Unit (GFJD)

• Kayenta Service Unit (GFJE)

• Shiprock Service Unit (GFJJ)

Section GA-40, Indian Health Service—Delegations of Authority

All delegations of authority and re-delegations of authority made to IHS officials that were in effect immediately prior to this reorganization, and that are consistent with this reorganization, shall continue in effect pending further re-delegation.

(Authority: 44 U.S.C. 3101)

This reorganization shall be effective on May 9, 2022.

Elizabeth A. Fowler,
Acting Director, Indian Health Service.

[FR Doc. 2022-10312 Filed 5-12-22; 8:45 am]

BILLING CODE 4165-16-P